DEPARTMENT OF COMMERCE

International Trade Administration

[C-122-865, C-201-851, C-570-103]

Certain Fabricated Structural Steel From Canada, Mexico, and the People's Republic of China: Postponement of Preliminary Determinations in the Countervailing Duty Investigations

AGENCY: Enforcement and Compliance, International Trade Administration, Department of Commerce.

DATES: Applicable April 16, 2019.

FOR FURTHER INFORMATION CONTACT: Whitley Herndon (202) 482-6274 or David Crespo (202) 482-3693 (Canada); Thomas Martin at (202) 482-3936 or Trisha Tran at (202) 482-4852 (Mexico); or Darla Brown at (202) 482-1791 (People's Republic of China (China)), AD/CVD Operations, Enforcement and Compliance, International Trade Administration, U.S. Department of Commerce, 1401 Constitution Avenue NW, Washington, DC 20230.

SUPPLEMENTARY INFORMATION:

Background

On February 25, 2019, the Department of Commerce (Commerce) initiated countervailing duty (CVD) investigations of imports of certain fabricated structural steel from Canada, China, and Mexico.¹ Currently, the preliminary determinations are due no later than May 1, 2019.

¹ See Certain Fabricated Structural Steel From Canada, Mexico, and the People's Republic of China: Initiation of Countervailing Duty Investigations, 84 FR 7339 (March 4, 2019) (Initiation Notice).

Postponement of Preliminary Determinations

Section 703(b)(1) of the Tariff Act of 1930, as amended (the Act), requires Commerce to issue the preliminary determination in a CVD investigation within 65 days after the date on which Commerce initiated the investigation. However, if the petitioner makes a timely request for postponement, section 703(c)(1)(A) of the Act permits Commerce to postpone the preliminary determination until no later than 130 days after the date on which Commerce initiated the investigation. Under 19 CFR 351.205(e), the petitioner must submit a request for postponement 25 days or more before the scheduled date of the preliminary determination and must state the reasons for the request. Commerce will grant the request unless it finds compelling reasons to deny the request.

On April 5, 2019, the petitioner ² submitted a timely request that Commerce postpone the preliminary determinations in these CVD investigations.³ The petitioner stated that it requests postponement of the preliminary determinations because Commerce recently issued questionnaires and additional time is required for Commerce to receive and analyze the questionnaire responses.⁴ Furthermore, the petitioner stated that additional time will permit it to review and comment on the submitted data.⁵

² The petitioner is the Full Member Subgroup of the American Institute of Steel Construction, LLC.

³ See the petitioner's Letter titled, “Certain Fabricated Structural Steel From Canada, Mexico, and the People's Republic of China: Request to Postpone Determination,” dated April 5, 2019.

⁴ Id.

⁵ Id.

In accordance with 19 CFR 351.205(e), the petitioner has stated the reasons for requesting postponement of the preliminary determinations, and Commerce finds no compelling reason to deny the request. Therefore, in accordance with section 703(c)(1)(A) of the Act, Commerce is postponing the deadline for the preliminary determinations to no later than 130 days after the date on which these investigations were initiated, i.e., July 5, 2019. Pursuant to section 705(a)(1) of the Act and 19 CFR 351.210(b)(1), the deadline for the final determinations of these investigations will continue to be 75 days after the date of the preliminary determinations.

This notice is issued and published pursuant to section 703(c)(2) of the Act and 19 CFR 351.205(f)(1).

Dated: April 10, 2019.
Gary Taverman,
Deputy Assistant Secretary for Antidumping and Countervailing Duty Operations, performing the non-exclusive functions and duties of the Assistant Secretary for Enforcement and Compliance.

[FR Doc. 2019-07539 Filed 4-15-19; 8:45 am]

BILLING CODE 3510-DS-P